ENVIRONMENTAL PROTECTION AGENCY

[Docket# EPA-RO4-SFUND-2010-1053, FRL-9243-2]

Ward Transformer Superfund Site Raleigh, Wake County, NC; Notice of Settlements

AGENCY: Environmental Protection Agency.

ACTION: Notice of Settlement.

SUMMARY: Under Section 122(h)(1) of the Comprehensive Environmental Response, Compensation and Liability Act (CERCLA), the United States Environmental Protection Agency has entered into a five settlements for reimbursement of past response costs concerning the Ward Transformer Superfund Site located in Raleigh, Wake County, North Carolina for publication.

DATES: The Agency will consider public comments on the settlements until January 26, 2011. The Agency will consider all comments received and may modify or withdraw its consent to the settlements if comments received disclose facts or considerations which indicate that the settlements are inappropriate, improper, or inadequate.

ADDRESSES: Copies of the settlements are available from Ms. Paula V. Painter. Submit your comments, identified by Docket ID No. EPA-RO4-SFUND-2010-1053 or Site name Ward Transformer Superfund Site by one of the following methods:

• http://www.regulations.gov: Follow the on-line instructions for submitting comments.

• http://www.epa.gov/region4/waste/sf/enforce.htm.

• E-mail: Painter.Paula@epa.gov.

FOR FURTHER INFORMATION CONTACT: Paula V. Painter at 404/562-8887.

Dated: December 14, 2010.
Anita L. Davis,
Chief, Superfund Enforcement & Information Management Branch, Superfund Division.

[FR Doc. 2010-32459 Filed 12-23-10; 8:45 am]

BILLING CODE 6560-50-P